NATIONAL WOMEN'S BUSINESS COUNCIL

Quarterly Public Meeting

AGENCY: National Women's Business Council.

ACTION: Notice of open Public Meeting.

DATES: The Public Meeting will be held on Wednesday, May 10, 2017 from 2:00 p.m. to 4:30 p.m. EST.

ADDRESSES: The meeting will be held in Washington, DC. Location details will be provided upon RSVP, as will information about teleconferencing options.

SUPPLEMENTARY INFORMATION: Pursuant to section 10(a)(2) of the Federal Advisory Committee Act (5 U.S.C., Appendix 2), the U.S. Small Business Administration (SBA) announces the meeting of the National Women's Business Council. The National Women's Business Council conducts research on issues of importance and impact to women entrepreneurs and makes policy recommendations to the SBA, Congress, and the White House on how to improve the business climate for women.

This meeting is the 3rd quarter meeting for Fiscal Year 2017. The agenda will include remarks from the Council Chair, Carla Harris and updates on research projects in progress, including: Women's necessity entrepreneurship, Hispanic women entrepreneurship, and veteran women entrepreneurs. Additionally, the Council will provide a summary of recent engagement efforts. The program will feature NWBC Council Members and city officials discussing local ecosystem supports for women entrepreneurs. Time will be reserved at the end for audience participants to address Council Members and panel participants directly with questions, comments, or feedback. Additional speakers will be promoted upon confirmation.

FOR FURTHER INFORMATION CONTACT: The meeting is open to the public, however advance notice of attendance is requested. To RSVP and confirm attendance, the general public should email info@nwbc.gov with subject line—“RSVP for 5/10 Public Meeting”. Anyone wishing to make a presentation to the NWBC at this meeting must either email their interest to info@nwbc.gov or call the main office number at 202-205-3850.

For more information, please visit the National Women's Business Council Web site at www.nwbc.gov.

Richard Kingan,
SBA Committee Management Officer.

[FR Doc. 2017-08396 Filed 4-25-17; 8:45 am]

BILLING CODE 6820-AB-P